DEPARTMENT OF HOMELAND SECURITY

Federal Emergency Management Agency

[Docket ID FEMA-2016-0018]

FEMA Directive 108-1 and FEMA Instruction 108-1-1

AGENCY: Federal Emergency Management Agency, DHS.

ACTION: Notice of availability.

SUMMARY: This document provides notice of availability of final FEMA Directive 108-1 and FEMA Instruction 108-1-1 (referred to as Directive and Instruction). Together, this Directive and Instruction serve as FEMA's supplemental instructions for Environmental Planning and Historic Preservation (EHP), in accordance with the Department of Homeland Security's (DHS) Directive 023-01, Rev. 01 and Instruction Manual 023-01-001-01, Rev. 01, Implementation of the National Environmental Policy Act (NEPA).

DATES: This final Directive and Instruction are effective August 22, 2016.

ADDRESSES: The final Directive and Instruction are available online at http://www.regulations.gov (docket ID FEMA-2016-0018) and on FEMA's Web site at https://www.fema.gov/media-library/assets/documents/118323. You may also view a hard copy of the final Directive and Instruction at the Office of Chief Counsel, Federal Emergency Management Agency, Room 835, 500 C Street SW., Washington, DC 20472.

FOR FURTHER INFORMATION CONTACT: Katherine Zeringue, Environmental Officer, Federal Emergency Management Agency, 400 C Street SW., Suite 313, Washington, DC 20472-3020; 202-212-2282, or Katherine.Zeringue@fema.dhs.gov.

SUPPLEMENTARY INFORMATION: On November 26, 2014, DHS issued revised NEPA implementing procedures, applicable to all DHS components, via Directive 023-01 and Instruction 023-01-001-01, which went into effect on March 26, 2015 (79 FR 70538). The EHP Directive and Instruction operate jointly to constitute FEMA's supplemental EHP procedures in accordance with the DHS Directive and Instruction. The Directive establishes FEMA's policies, roles, responsibilities, and procedures for delegations of authority concerning EHP. The Instruction provides guidance and policy direction for implementation of NEPA and other EHP requirements across FEMA.

The EHP Directive and Instruction replace 44 CFR part 10: Environmental Considerations. The EHP Instruction also replaces the following policy memoranda:

A. Environmental Policy Memo 108.024.2: Other Federal Agency Clearance for Environmental Assessments (December 18, 2013).

B. Environmental Policy Memo 108.024.4: Projects Initiated Without Environmental Review Required by the National Environmental Policy Act (December 18, 2013).

Authority: The Directive and Instruction are consistent with the DHS Directive 023-01 and Instruction 023-01-001-01 for implementation of the National Environmental Policy Act of 1969 (NEPA) (42 U.S.C. 4321 et seq.), as amended, and the Council on Environmental Quality (CEQ) regulations for implementing the procedural provisions of NEPA (40 CFR parts 1500-1508).

Dated: August 2, 2016.
W. Craig Fugate,
Administrator, Federal Emergency Management Agency.

[FR Doc. 2016-19534 Filed 8-19-16; 8:45 am]

BILLING CODE 9110-A6-P